DEPARTMENT OF THE INTERIOR

National Park Service

[NPS-WASO-NAGPRA-NPS0029119; PPWOCRADN0-PCU00RP14.R50000]

Notice of Inventory Completion: Robert S. Peabody Institute of Archaeology, Andover, MA; Correction; Correction

AGENCY: National Park Service, Interior.

ACTION: Notice; correction.

SUMMARY: The Robert S. Peabody Institute of Archaeology (formerly the Robert S. Peabody Museum of Archaeology) has corrected an inventory of associated funerary objects, published in a Notice of Inventory Completion in the Federal Register on September 22, 2017 and amended in a Notice of Inventory Completion Correction published in the Federal Register on January 30, 2018. This notice further corrects the number of associated funerary objects. Lineal descendants or representatives of any Indian Tribe or Native Hawaiian organization not identified in this notice that wish to request transfer of control of these associated funerary objects should submit a written request to the Robert S. Peabody Institute of Archaeology. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to the Robert S. Peabody Institute of Archaeology at the address in this notice by December 9, 2019.

ADDRESSES: Ryan Wheeler, Robert S. Peabody Institute of Archaeology, 180 Main Street, Andover, MA 01810, telephone (978) 749-4490, email rwheeler@andover.edu.

SUPPLEMENTARY INFORMATION: Notice is here given in accordance with the Native American Graves Protection and Repatriation Act (NAGPRA), 25 U.S.C. 3003, of the correction of an inventory of associated funerary objects under the control of the Robert S. Peabody Institute of Archaeology, Andover, MA. The associated funerary objects were removed from Mansion Inn site, Wayland, Middlesex County, MA.

This notice is published as part of the National Park Service's administrative responsibilities under NAGPRA, 25 U.S.C. 3003(d)(3). The determinations in this notice are the sole responsibility of the museum, institution, or Federal agency that has control of the Native American associated funerary objects. The National Park Service is not responsible for the determinations in this notice.

This notice further corrects the number and types of associated funerary objects published in a Notice of Inventory Completion in the Federal Register (82 FR 44460-44461, September 22, 2017) and amended in a Notice of Inventory Completion Correction in the Federal Register (83 FR 4266-4267, January 30, 2018). In June 2019, the Wayland Archaeological Research Group (WARG) transferred associated funerary objects to the Robert S. Peabody Institute of Archaeology to aid in the repatriation of objects from the Mansion Inn site (19-MD-210). These associated funerary objects were originally collected by Duncan Ritchie, Herbert Ross, and Curtis Chapin and some had been curated at the now defunct Elbanobscot Foundation Inc., Sudbury, MA. The updated counts and types of associated funerary objects reflect the inclusion of the WARG transfer. Transfer of control of the items in this correction notice has not occurred.

Correction

In the Federal Register (82 FR 44461, September 22, 2017), column 2, paragraph 1, sentence 1 is corrected by substituting the following sentence:

In June 1959, 274 associated funerary objects were removed from the Mansion Inn site (19-MD-210) in Middlesex County, MA.

In the Federal Register (82 FR 44461, September 22, 2017), column 2, paragraph 1, sentence 6 is corrected by substituting the following sentence:

Human remains and funerary objects removed by Johnson, Curtis Chapin, Duncan Ritchie, Herbert Ross, and others were ultimately preserved in the Robert S. Peabody Institute of Archaeology, the Massachusetts Archaeological Society/Robbins Museum, the Elbanobscot Foundation Inc., and the Wayland Archaeological Research Group.

In the Federal Register (83 FR 4266, January 30, 2018), column 3, full paragraph 3, under the heading “Correction”, is corrected by substituting the following sentence:

The 274 associated funerary objects are three adze fragments; one axe fragment; 121 bifaces and biface fragments; 18 flakes/debitage; 11 lots, flakes/debitage; one lot, calcined bone fragments; two charcoal samples; one charred nut fragment; one hammerstone; 22 worked and unworked pebbles and pebble fragments; 22 biface preform fragments; one shark tooth; one ceramic sherd; one lot, red ochre and animal bone fragments; 18 groundstone fragments; 10 fragments, fire cracked rock; one thumbnail scraper; and 39 unworked stone fragments.

In the Federal Register (83 FR 4266, January 30, 2018), column 3, full paragraph 4, under the heading “Correction”, is corrected by replacing the number “178” with “274”.

Additional Requestors and Disposition

Lineal descendants or representatives of any Indian Tribe or Native Hawaiian organization not identified in this notice that wish to request transfer of control of these associated funerary objects should submit a written request with information in support of the request to Ryan Wheeler, Robert S. Peabody Institute of Archaeology, 180 Main Street, Andover, MA 01810, telephone (978) 749-4490, email rwheeler@andover.edu, by December 9, 2019. After that date, if no additional requestors have come forward, transfer of control of the associated funerary objects to the Wampanoag Repatriation Confederation, representing the Mashpee Wampanoag Tribe (previously listed as the Mashpee Wampanoag Indian Tribal Council, Inc.) and the Wampanoag Tribe of Gay Head (Aquinnah), and, if joined to one or more of the above Tribes, the Assonet Band of the Wampanoag Nation and Nipmuc Nation, which are non-federally recognized Indian groups, may proceed.

The Robert S. Peabody Institute of Archaeology is responsible for notifying the Wampanoag Repatriation Confederation, representing the Mashpee Wampanoag Tribe (previously listed as the Mashpee Wampanoag Indian Tribal Council, Inc.) and the Wampanoag Tribe of Gay Head (Aquinnah), and, if joined to one or more of the above Tribes, the Assonet Band of the Wampanoag Nation and Nipmuc Nation, which are non-federally recognized Indian groups, that this notice has been published.

Dated: October 15, 2019.
Melanie O'Brien,
Manager, National NAGPRA Program.

[FR Doc. 2019-24400 Filed 11-7-19; 8:45 am]

BILLING CODE 4312-52-P